DEPARTMENT OF THE TREASURY

Alcohol and Tobacco Tax and Trade Bureau

Proposed Information Collections; Comment Request

AGENCY: Alcohol and Tobacco Tax and Trade Bureau; Treasury.

ACTION: Notice and request for comments.

SUMMARY: As part of our continuing effort to reduce paperwork and respondent burden, and as required by the Paperwork Reduction Act of 1995, we invite comments on the proposed or continuing information collections listed below in this notice.

DATES: We must receive your written comments on or before August 28, 2012.

ADDRESSES: You may send comments to Mary A. Wood, Alcohol and Tobacco Tax and Trade Bureau, at any of these addresses:

• P.O. Box 14412, Washington, DC 20044-4412;

• 202-453-2686 (facsimile); or

• formcomments@ttb.gov (email).

Please send separate comments for each specific information collection listed below. You must reference the information collection's title, form or recordkeeping requirement number, and OMB number (if any) in your comment. If you submit your comment via facsimile, send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-453-2265.

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following forms and recordkeeping requirements:

Title: Authorization to Furnish Financial Information and Certificate of Compliance.

OMB Control Number: 1513-0004.

TTB Form Number: 5030.6.

Abstract: The Right to Financial Privacy Act of 1978 limits access to records held by financial institutions and provides for certain procedures to gain access to the information. TTB F 5030.6 serves as both a customer authorization for TTB to receive such information and as the required certification to the financial institution.

Current Actions: We are submitting this information collection for extension purposes only. The information collection, estimated number of respondents, and estimated total annual burden hours remain unchanged.

Type of Review: Extension of a currently approved collection.

Affected Public: Business or other for-profit.

Estimated Number of Respondents: 2,000.

Estimated Total Annual Burden Hours: 500.

Title: Formula and Process for Wine.

OMB Control Number: 1513-0010.

TTB Form Number: 5120.29.

Abstract: TTB F 5120.29 is used to determine the classification of wines for labeling and consumer protection purposes. The form describes the person filing, the type of product to be made, and any restrictions to labeling and manufacture. The form is also used to audit a product's compliance with the relevant regulations.

Current Actions: We are submitting this information collection for extension purposes only. The information collection, estimated number of respondents, and estimated total annual burden hours remain unchanged.

Type of Review: Extension of a currently approved collection.

Affected Public: Business or other for-profit.

Estimated Number of Respondents: 600.

Estimated Total Annual Burden Hours: 1,200.

Title: Application for an Industrial Alcohol User Permit.

OMB Number: 1513-0028.

TTB Form Number: 5150.22.

Abstract: TTB F 5150.22 is used to determine the eligibility of the applicant to engage in certain operations and the extent of the operations for the production and distribution of specially denatured spirits (alcohol/rum). This form identifies the location of the premises and establishes whether the premises will be in conformity with Federal laws and regulations.

Current Actions: We are submitting this information collection for extension purposes only. The information collection, estimated number of respondents, and estimated total annual burden hours remain unchanged.

Type of Review: Extension of a currently approved collection.

Affected Public: Business or other for-profit.

Estimated Number of Respondents: 738.

Estimated Total Annual Burden Hours: 738.

Title: Distilled Spirits Records and Monthly Report of Production Operations.

OMB Number: 1513-0047.

TTB Form Number: 5110.40.

TTB Recordkeeping Number: 5110/01.

Abstract: This information collected is used to account for a proprietor's excise tax liability, adequacy of bond coverage, and protection of the revenue. The information also provides TTB with data to analyze trends in the industry, plan efficient allocation of field resources, audit plant operations, and compile statistics for government economic analysis.

Current Actions: We are submitting this information collection as a revision. Changes in the supporting statement and form reflects changes to regulatory section numbers as recodified in the final rule for the revision of 27 CFR Part 19, Distilled Spirits Plants. The estimated number of respondents and estimated total annual burden hours remain unchanged.

Type of Review: Revision of a currently approved collection.

Affected Public: Business or other for-profit.

Estimated Number of Respondents: 1,800.

Estimated Total Annual Burden Hours: 3,600.

Title: Registration of Distilled Spirits Plants and Miscellaneous Requests and Notices for Distilled Spirits Plants.

OMB Control Number: 1513-0048.

TTB Form Number: 5110.41.

Abstract: The information provided by the applicants assists TTB in determining eligibility and providing for registration. These eligibility requirements are for persons who wish to establish distilled spirits plant operations. However, both statutes and regulations allow variances from regulations, and this information provides data to permit a variance.

Current Actions: We are submitting this information collection as a revision. Changes in the supporting statement and form reflects changes to regulatory section numbers as recodified in the final rule for the revision of 27 CFR Part 19, Distilled Spirits Plants.

Type of Review: Revision of a currently approved collection.

Affected Public: Business or other for-profit.

Estimated Number of Respondents: 1,109.

Estimated Total Annual Burden Hours: 1,265.

Title: Letterhead Applications and Notices Relating to Wine.

OMB Control Number: 1513-0057.

TTB Recordkeeping Number: 5120/2.

Abstract: Letterhead applications and notices relating to wine are required to ensure that the intended activity will not jeopardize the revenue or defraud consumers.

Current Actions: We are submitting this information collection for extension purposes only. The information collection, estimated number of respondents, and estimated total annual burden hours remain unchanged.

Type of Review: Extension of a currently approved collection.

Affected Public: Business or other for-profit.

Estimated Number of Respondents: 1,650.

Estimated Total Annual Burden Hours: 826.

Title: Airlines Withdrawing Stock from Customs Custody.

OMB Control Number: 1513-0074.

TTB Recordkeeping Number: 5620/2.

Abstract: Airlines may withdraw tax-exempt distilled spirits, wine, and beer from Customs custody for foreign flights. The required record shows the amount of spirits and wine withdrawn, flight identification, and Customs certification. The records enable TTB to verify that tax is not due, allows spirits and wines to be traced, maintains accountability, and protects tax revenue. This collection of information is contained in 27 CFR 28.280 and 28.281.

Current Actions: We are submitting this information collection for extension purposes only. The information collection, estimated number of respondents, and estimated total annual burden hours remain unchanged.

Type of Review: Extension of a currently approved collection.

Affected Public: Business or other for-profit.

Estimated Number of Respondents: 25.

Estimated Total Annual Burden Hours: 2,500.

Title: Alcohol, Tobacco, and Firearms Tax Returns, Claims, and Related Documents.

OMB Control Number: 1513-0088.

TTB Recordkeeping Number: 5000/24.

Abstract: TTB is responsible for the collection of the Federal excise taxes on firearms, ammunition, distilled spirits, wine, beer, various tobacco products, and cigarette papers and tubes. Alcohol, tobacco, firearms, and ammunition excise taxes, and tobacco special (occupational) taxes are required to be collected on the basis of a return. Section 5555 of title 26 of the United States Code (26 U.S.C. 5555) authorizes the Secretary of the Treasury to prescribe regulations requiring all persons liable for these taxes to prepare records, statements, or returns as necessary to protect the revenue.

Current Actions: We are submitting this information collection as a revision. Change in the supporting statement reflect changes to regulatory section numbers as recodified in the final rule for the revision of 27 CFR Part 19, Distilled Spirits Plants. The estimated number of respondents and estimated total annual burden hours remain unchanged.

Type of Review: Revision of a currently approved collection.

Affected Public: Business or other for profit; Not-for-profit institutions; Individuals or households.

Estimated Number of Respondents: 503,921.

Estimated Total Annual Burden Hours: 503,921.

Title: Liquors and Articles from Puerto Rico or the Virgin Islands.

OMB Control Number: 1513-0089.

TTB Recordkeeping Number: 5530/3.

Abstract: This information collection applies to persons bringing nonbeverage products into the United States from Puerto Rico and the Virgin Islands. These recordkeeping requirements are for the verification of claims for drawback of distilled spirits excise tax paid on nonbeverage products.

Current Actions: We are submitting this information collection for extension purposes only. The information collection, estimated number of respondents, and estimated total annual burden hours remain unchanged.

Type of Review: Extension of a currently approved collection.

Affected Public: Business or other for-profit.

Estimated Number of Respondents: 20.

Estimated Total Annual Burden Hours: 160.

Title: Certificate of Taxpaid Alcohol.

OMB Control Number: 1513-0131.

TTB Form Number: 5100.4.

Abstract: This form is required by a Port Director of Customs and Border Patrol (Customs) to support refunding taxes paid on nonbeverage products that are exported. When the nonbeverage product is exported, the industry member submits TTB F 5100.4 and supporting documentation to TTB. TTB certifies the form and then submits it to Customs.

Current Actions: We are submitting this information collection for extension purposes only. The information collection, estimated number of respondents, and estimated total annual burden hours remain unchanged.

Type of Review: Extension of a currently approved collection.

Affected Public: Business or other for-profit.

Estimated Number of Respondents: 10.

Estimated Total Annual Burden Hours: 1,000.

Dated: June 26, 2012.
Amy Greenberg,
Assistant Director, Regulations and Rulings Division.

[FR Doc. 2012-16008 Filed 6-28-12; 8:45 am]

BILLING CODE 4810-31-P